DEPARTMENT OF TRANSPORTATION

Federal Aviation Administration

14 CFR Parts 91, 121, and 125

[Docket No.: FAA-1999-6482; Amendment No. 91-304A, 121-342A and 125-56A]

RIN 2120AG87

Revisions to Digital Flight Data Recorder Regulations for Boeing 737 Airplanes and for All Part 125 Airplanes

AGENCY: Federal Aviation Administration (FAA), DOT.

ACTION: Final rule; Notice of Office of Management and Budget approval for information collection.

SUMMARY: This notice announces the Office of Management and Budget's (OMB's) approval of the information collection requirement contained in the FAA's final rule, “Revisions to Digital Flight Data Recorder Regulations for Boeing 737 Airplanes and for All Part 125 Airplanes.” That final rule was published on December 2, 2008.

DATES: The FAA received OMB approval for the information collection requirements in the final rule published December 2, 2008, 73 FR 73171, on April 3, 2009. The final rule became effective on February 9, 2009.

FOR FURTHER INFORMATION CONTACT: For technical issues: Brian A. Verna, Avionics Systems Branch, Aircraft Certification Service, AIR-130, Federal Aviation Administration, 800 Independence Avenue, SW., Washington, DC 20591; telephone (202) 385-4643; facsimile (202) 385-4651; e-mail brian.verna@faa.gov. For legal issues: Karen L. Petronis, Senior Attorney, Regulations Division, AGC-200, Office of the Chief Counsel, Federal Aviation Administration, 800 Independence Ave., SW., Washington, DC 20591; telephone (202) 267-3073; facsimile (202) 267-7971; e-mail: karen.petronis@faa.gov.

SUPPLEMENTARY INFORMATION: On December 2, 2008, the FAA published the final rule entitled “Revisions to Digital Flight Data Recorder Regulations for Boeing 737 Airplanes and for All Part 125 Airplanes” (73 FR 73171). This rule amended the regulations governing flight data recorders to increase the number of digital flight data recorder parameters for all Boeing 737 series airplanes manufactured after August 18, 2000. This change was based on safety recommendations from the National Transportation Safety Board following its investigations of two accidents and several incidents involving 737s. The final rule also adopted a prohibition on deviations from flight recorder requirements for all airplanes operated under part 125.

The final rule contained information collection requirements that the Office of Management and Budget (OMB) had not yet approved as of the date of publication. In the “Paperwork Reduction Act” section of the final rule, the FAA noted that the agency may not collect or sponsor the collection of information, nor may it impose an information collection requirement, unless it displays a currently valid OMB control number.

In accordance with the Paperwork Reduction Act, OMB approved that request on April 3, 2009, and assigned the information collection OMB Control Number 2120-0616. The FAA request was approved by OMB without change and expires on April 30, 2012. This notice is being published to inform affected parties of the approval and to announce that the information collection requirements in the final rule entitled “Revisions to Digital Flight Data Recorder Regulations for Boeing 737 Airplanes and for All Part 125 Airplanes” will become effective when this notice is published in the Federal Register.

Issued in Washington, DC, on August 17, 2009.
Pamela Hamilton-Powell,
Director, Office of Rulemaking.

[FR Doc. E9-20059 Filed 8-20-09; 8:45 am]

BILLING CODE 4910-13-P